DEPARTMENT OF JUSTICE

Notice of Lodging of Consent Decree Under the Comprehensive Environmental Response, Compensation and Liability Act

Notice is hereby given that on May 7, 2008, a proposed Third Partial Consent Decree (“Consent Decree”) in United States v. Valley Wood Preserving, Inc. et al., Civil Action No. 94-CV-05984 REC(SMS), was lodged with the United States District Court for the Eastern District of California.

In this action, the United States sought reimbursement of response costs incurred and to be incurred in connection with the Valley Wood Preserving, Inc. Superfund Site in Turlock, California, pursuant to Section 107 of the Comprehensive Environmental Response, Compensation and Liability Act, 42 U.S.C. 9607. Under the Consent Decree, Valley Wood Preserving, Inc. and Joyce Logsdon will pay twenty thousand three hundred dollars of response ($20,300) costs that have been incurred by the United States.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Valley Wood Preserving, Inc. et al., D.J. Ref. No. 90-11-3-835.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy of the Consent Decree from the Consent Decree Library, please enclose a check in the amount of $4.50 (25 cents per page reproduction cost) payable to the U.S. Treasury, or, if by email or fax, forward a check in that amount to the Consent Decree Library at the stated address.

Henry Friedman,
Assistant Section Chief, Environmental Enforcement Section, Environment and Natural Resources Division.

[FR Doc. E8-10665 Filed 5-12-08; 8:45 am]

BILLING CODE 4410-15-P